DEPARTMENT OF COMMERCE

International Trade Administration

[A-570-851]

Certain Preserved Mushrooms from the People's Republic of China: Extension of Time Limit for Preliminary Results of the Eighth Antidumping Duty New Shipper Review

AGENCY: Import Administration, International Trade Administration, Department of Commerce.

EFFECTIVE DATE: March 22, 2005.

FOR FURTHER INFORMATION CONTACT: Steve Winkates at (202) 482-1904, AD/CVD Operations, Office 9, Import Administration, International Trade Administration, U.S. Department of Commerce, 14th Street and Constitution Avenue, NW, Washington, DC, 20230.

SUPPLEMENTARY INFORMATION:

Background

At the request of Blue Field (Sichuan) Food Industrial Co., Ltd., the Department of Commerce (“the Department”) initiated a new shipper review of the antidumping duty order on certain preserved mushrooms from the People's Republic of China (“PRC”) for the period February 1, 2004, through July 31, 2004. See Certain Preserved Mushrooms from the PRC: Initiation of Eighth New Shipper Antidumping Duty Review, 69 FR 57264 (September 24, 2004). The preliminary results of this review are currently due no later than March 16, 2005.

Extension of Time Limit for Preliminary Results of Review

Pursuant to 751(a)(2)(B)(iv) of the Tariff Act of 1930, as amended (“the Act”) and 19 CFR 351.214(i)(1), the Department will issue the preliminary results of a new shipper review within 180 days after the date on which the new shipper review was initiated, and issue the final results within 90 days after the date on which the preliminary results were issued. The Department may, however, extend the deadline for completion of the preliminary results of a new shipper review to 300 days if it determines that the case is extraordinarily complicated (19 CFR 351.214(I)(2)).

The Department finds that it is not practicable to complete the preliminary results of this new shipper review within the statutory time limit of 180 days. Specifically, we find that additional time is needed to conduct our bona fide sales analysis based on our findings at verification. Given that additional time is needed to conduct our bona fide sales analysis, we find that this case is extraordinarily complicated.

Accordingly, the Department is extending the time limit for the completion of the preliminary results of this new shipper review until July 14, 2005, which is 300 days after the date on which the new shipper review was initiated. The final results will, in turn, be due 90 days after the date of issuance of the preliminary results, unless extended.

This notice is in accordance with section 751(a)(2)(B)(iv) of the Act and 19 CFR 351.214(i)(2).

Dated: March 15, 2005.
Barbara E. Tillman,
Acting Deputy Assistant Secretary for Import Administration.

[FR Doc. E5-1251 Filed 3-21-05; 8:45 am]

BILLING CODE: 3510-DS-S